ENVIRONMENTAL PROTECTION AGENCY

[WA-01-003; FRL-7410-3]

Adequacy Status of the State Implementation Plan Revision for Carbon Monoxide in the Spokane Serious Nonattainment Area, Spokane, WA

AGENCY: Environmental Protection Agency (EPA).

ACTION: Notice of adequacy determination.

SUMMARY: In this notice, EPA is notifying the public that we have found the motor vehicle emissions budget submitted in the State Implementation Plan Revision for Carbon Monoxide in the Spokane Serious Nonattainment Area, Spokane, Washington adequate for conformity purposes. On March 2, 1999, the D.C. Circuit Court ruled that submitted SIPs cannot be used for conformity determinations until EPA has affirmatively found them adequate. As a result of our finding, the Spokane Regional Transportation Council, Washington Department of Transportation, and the U.S. Department of Transportation are required to use the motor vehicle emissions budget in this submitted attainment plan for future transportation conformity determinations.

DATES: This finding is effective December 4, 2002.

FOR FURTHER INFORMATION CONTACT: The finding will be available at EPA's conformity Web site: http://www.epa.gov/oms/traq, (once there, click on the “Conformity” button, then look for “Adequacy Review of SIP Submissions for Conformity”). You may also contact Wayne Elson, U.S. EPA, Region 10 (OAQ-107), 1200 Sixth Ave, Seattle WA 98101; (206) 553-1463 or elson.wayne@epa.gov.

SUPPLEMENTARY INFORMATION: Today's notice is simply an announcement of a finding that we have already made. EPA Region 10 sent a letter to the Washington Department of Ecology on November 1, 2002, stating that the motor vehicle emissions budget in the State Implementation Plan Revision for Carbon Monoxide in the Spokane Serious Nonattainment Area, Spokane, Washington is adequate.

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budget is adequate for conformity purposes are outlined in 40 CFR 93.118(e)(4). Please note that an adequacy review is separate from EPA's completeness review.

We have described our process for determining the adequacy of submitted SIP budgets in guidance (May 14, 1999 memo titled “Conformity Guidance on Implementation of March 2, 1999 Conformity Court Decision”). We followed this guidance in making our adequacy determination.

Authority: 42 U.S.C. 7401-7671q.

Dated: November 4, 2002.
Michael F. Gearheard,
Acting Regional Administrator, Region 10.

[FR Doc. 02-29338 Filed 11-18-02; 8:45 am]

BILLING CODE 6560-50-P